COMMITTEE FOR PURCHASE FROM PEOPLE WHO ARE BLIND OR SEVERELY DISABLED

Procurement List; Proposed Additions and Deletions

AGENCY: Committee for Purchase from People Who Are Blind or Severely Disabled.

ACTION: Proposed Additions to and Deletions from Procurement List.

SUMMARY: The Committee is proposing to add to the Procurement List services to be furnished by nonprofit agencies employing persons who are blind or have other severe disabilities, and to delete products previously furnished by such agencies.

Comments Must Be Received on or Before: May 16, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

End of Certification

The following services are proposed for addition to Procurement List for production by the nonprofit agencies listed:

Services

Service Type/Location: Custodial Services, Federal Building, Courthouse, Raleigh, North Carolina; Federal Building, Post Office, Century Station, Raleigh, North Carolina; Federal Building, Post Office, Courthouse, Elizabeth City, North Carolina; U.S. Courthouse, Greenville, North Carolina.

NPA: Orange Enterprises, Inc., Hillsborough, North Carolina.

Contract Activity: GSA, Property Management Center (4PMC), Charlotte, North Carolina.

Service Type/Location: Janitorial/Grounds and Related Services, Clearfield Federal Depot, Buildings C-6, C-7, D-5 and 2, Clearfield, Utah.

NPA: Pioneer Adult Rehabilitation Center Davis County School District, Clearfield, Utah.

Contract Activity: GSA/Mountain Plains Service Center, Salt Lake City, Utah.

Deletions

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

The following products are proposed for deletion from the Procurement List:

Products

Product/NSN: Cloth, Super Wipe, M.R. 565.

NPA: Industries of the Blind, Inc., Greensboro, North Carolina.

Contract Activity: Defense Commissary Agency (DeCA), Ft. Lee, Virginia.

Product/NSN: Cup, Drinking, Styrofoam, M.R. 537.

NPA: The Oklahoma League for the Blind, Oklahoma City, Oklahoma.

Contract Activity: Defense Commissary Agency (DeCA), Ft. Lee, Virginia.

Product/NSN: Ergonomic Kitchen Gadgets (Ergo Nylon Square Turner), M.R. 880.

NPA: Cincinnati Association for the Blind, Cincinnati, Ohio.

Contract Activity: Defense Commissary Agency (DeCA), Ft. Lee, Virginia.

Product/NSN: Kitchen, Utensils (Spatula, Plate and Bowl), M.R. 832.

NPA: Dallas Lighthouse for the Blind, Dallas, Texas.

Contract Activity: Defense Commissary Agency (DeCA), Ft. Lee, Virginia.

Product/NSN: Mophead, Cotton Yarn, Wet, M.R. 937.

NPA: Arizona Industries for the Blind, Phoenix. Arizona.

NPA: New York Association for the Blind, Long Island, New York.

NPA: Mississippi Industries for the Blind, Jackson, Mississippi.

Contract Activity: Defense Commissary Agency (DeCA), Ft. Lee, Virginia.

Product/NSN: Scrubber, Pot & Dish and Refill, M.R. 592.

NPA: Lighthouse International, New York, New York.

Contract Activity: Defense Commissary Agency (DeCA), Ft. Lee, Virginia.

Product/NSN: Sponge, Bath, M.R. 593.

NPA: Industries for the Blind, Greensboro, North Carolina.

Contract Activity: Defense Commissary Agency (DeCA), Ft. Lee, Virginia.

Product/NSN: Vegetable Peeler, Stainless Steel, M.R. 825.

NPA: Cincinnati Association for the Blind, Cincinnati, Ohio.

Contract Activity: Defense Commissary Agency (DeCA), Ft. Lee, Virginia.

Sheryl D. Kennerly,
Director, Information Management.

[FR Doc. 04-8688 Filed 4-15-04; 8:45 am]

BILLING CODE 6353-01-P